NATIONAL SCIENCE FOUNDATION

Notice of Permit Applications Received Under the Antarctic Conservation Act of 1978 (Pub. L. 95-541)

AGENCY: National Science Foundation.

ACTION: Notice of Permit Applications Received under the Antarctic Conservation Act of 1978; Pub. L. 95-541.

SUMMARY: The National Science Foundation (NSF) is required to publish notice of permit applications received to conduct activities regulated under the Antarctic Conservation Act of 1978. NSF has published regulations under the Antarctic Conservation Act at Title 670 of the Code of Federal Regulations. This is the required notice of permit applications received.

DATES: Interested parties are invited to submit written data, comments, or views with respect to this permit application by December 5, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2006-023

Applicant: Kam W. Tang, Virginia Institute of Marine Science, P.O. Box 1346, 1208 Greate Road, Gloucester Point, VA 23062.

Activity for Which Permit is Requested: Introduce non-indigenous species intor Antarctica. The applicant proposes to bring cultures of Phaeocystis antarctica (phystoplankton) in small viles to Antarctica for use in experiments in the Crary Science and Engineering Center at McMurdo Station. They will study the interactions between these samples and other phytoplankton organisms to be collected from McMurdo Sound.

Location: Crary Science and Engineering Center at McMurdo Station, Antarctica.

Dates: December 13, 2005 to February 28, 2006.

Permit Application No. 2006-024

2. Applicant: Walker O. Smith, Virginia Institute of Marine Science, P.O. Box 1346, 1208 Greate Road, Gloucester Point, VA 23062.

Activity for Which Permit is Requested: Introduce non-indigenous species into Antarctica. The applicant proposes to bring small flasks of phytoplanton species, phaeocystis antarctica, Pseudo-nitzschia sp., and fragilariopsis cylindurs to Antarctica onboard the R/V Nathaniel B. Palmer for use in experiments. They plan to study the physiological response of these species to controlled environmental factors with onboard incubation.

Location: Ross Sea, Antarctica.

Dates: December 5, 2005 to February 29, 2006.

Nadene G. Kennedy,
Permit Officer, Office of Polar Programs.

[FR Doc. 05-22060 Filed 11-3-05; 8:45 am]

BILLING CODE 7555-01-M